DEPARTMENT OF HOMELAND SECURITY

Transportation Security Administration

Reports, Forms, and Record Keeping Requirements: Agency Information Collection Activity Under OMB Review; Registered Traveler (RT) Pilot Program; Satisfaction and Effectiveness Measurement Data Collection Instruments

AGENCY: Transportation Security Administration (TSA), DHS.

ACTION: Notice.

SUMMARY: The U.S. Department of Homeland Security, Transportation Security Administration, has submitted a request for the renewal of an existing information collection to the Office of Management and Budget (OMB) for review and clearance under the Paperwork Reduction Act of 1995 (Public Law 104-13, 44 U.S.C. 35). This notice announces that the Information Collection Request (ICR) abstracted below has been forwarded to OMB for review and comment. The ICR describes the nature of the information collection and its expected burden. TSA published a Federal Register notice, with a 60-day comment period soliciting comments, of the following collection of information on September 21, 2004 (69 FR 56451).

DATES: Send your comments by January 20, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Lisa S. Dean, Privacy Officer, Office of Transportation Security Policy, TSA-9, 601 South 12th Street, Arlington, Virginia 22202-4220; telephone (571) 227-3947; facsimile (571) 227-2555.

SUPPLEMENTARY INFORMATION:

Transportation Security Administration (TSA)

Title: Registered Traveler (RT) Pilot Program; Satisfaction and Effectiveness Measurement Data Collection Instruments.

Type of Request: Renewal of an existing collection.

OMB Control Number: 1652-0019.

Form(s): Electronic enrollment application; satisfaction survey.

Affected Public: Applicants to the RT Pilot Program and lead stakeholders.

Abstract: TSA is continuing an ongoing pilot at a limited number of airports to test and evaluate specific technologies and business processes related to the Registered Traveler (RT) concept. This pilot program is designed to positively identify qualified, known travelers via advanced identification technologies for the purposes of expediting those passengers' travel experience at the airport security checkpoints and thereby enabling TSA to improve the allocation of its limited security resources. In addition, TSA may expand the current pilot to additional locations and may also test the concept of a public/private partnership.

TSA will collect and retain a minimal amount of personal information from individuals who volunteer to participate in the program. This information may be used by TSA to verify an applicant's claimed identity, complete a name-based security threat assessment, and issue an identification token prior to enrollment in the program. In addition, TSA will administer two instruments to measure satisfaction of RT pilot participants and key stakeholders to collect data on the effectiveness of the pilot technologies and business processes. The first instrument will be a survey of a representative percentage of the RT pilot participants. The second instrument will be an interview conducted with the key stakeholders at sites participating in the RT pilot. All surveys and interviews will be voluntary and anonymous.

Number of Respondents: 175,000.

Estimated Annual Burden Hours: 38,384.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on December 15, 2004.
Lisa S. Dean,
Privacy Officer.

[FR Doc. 04-27903 Filed 12-20-04; 8:45 am]

BILLING CODE 4910-62-P